DEPARTMENT OF TRANSPORTATION

Federal Aviation Administration

[Summary Notice No. PE-2001-14]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before March 19, 2001.

ADDRESSES: Send comments on any petition in triplicate to: Federal Aviation Administration, Office of the Chief Counsel, Attn: Rule Docket (AGC-2001), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to 11.85 and 11.91.

Issued in Washington, DC, on February 20, 2001.
Donald P. Byrne,
Assistant Chief Counsel for Regulations.

Dispositions of Petitions

Docket No.: 29450.

Petitioner: Business Air, Inc.

Section of the 14 CFR Affected: 14 CFR 135.143(c)(2).

Description of Relief Sought/Disposition: To permit Business Air to operate certain aircraft under part 135 without a TSO-C112 (Mode S) transponder installed in the aircraft. Grant, 12/22/2000, Exemption No. 6876A.

Docket No.: 29013.

Petitioner: Vintage Flying Museum.

Section of the 14 CFR Affected: 14 CFR 91.315, 119.5(g), and 119.21(a).

Description of Relief Sought/Disposition: To permit VFM to operate its former military B-17G aircraft, which is certificated in the limited category, for the purpose of carrying passengers on local flights in return for receiving donations. Grant, 12/22/2000, Exemption No. 7411.

Docket No.: 30178.

Petitioner: Georgian Aerospace Group Inc.

Section of the 14 CFR Affected: 14 CFR 25.857(e)(4).

Description of Relief Sought/Disposition: To permit supplemental type certification of the Sabreliner Model 40 and 60 series airplanes, modified for the carriage of cargo. Grant, 12/21/2000, Exemption No. 7410.

Docket No.: 28557.

Petitioner: Chromalloy Gas Turbine Corporation.

Section of the 14 CFR Affected: 14 CFR 43.9(a)(4), 43.11(a)(3), and 145.57(a).

Description of Relief Sought/Disposition: To permit CGTC and other persons holding return-to-service authority under the relevant respective inspection procedures manuals to continue to use electronic signatures in lieu of physical signatures to satisfy the signature requirements of FAA Form 8130-3, Airworthiness Approval Tag. Grant, 12/29/00, Exemption No. 6513C.

Docket No.: 30104.

Petitioner: Matsushita Electric Industrial Co.

Section of the 14 CFR Affected: 14 CFR 145.47(b).

Description of Relief Sought/Disposition: To permit MEI to use the calibration standards of the National Research Laboratory of Metrology (NRLM) and the Electrotechnical Laboratory (ETL) in lieu of the calibration standards of the National Institute of Standards and Technology (NIST) to test its inspection and test equipment. Grant, 12/22/00, Exemption No. 7413.

Docket No.: 17145.

Petitioner: United Airlines.

Section of the 14 CFR Affected: 14 CFR 121.665 and 121.697(a).

Description of Relief Sought/Disposition: To permit UA to continue to use computerized load manifests that bear the printed name and position of the person responsible for loading the aircraft, instead of that person's signature. Grant, 12/29/00, Exemption No. 2466M.

[FR Doc. 01-4544 Filed 2-22-01; 8:45 am]

BILLING CODE 4910-13-M